DEPARTMENT OF COMMERCE

International Trade Administration

[A-570-060, A-533-875, A-580-893, A-583-860]

Fine Denier Polyester Staple Fiber From the People's Republic of China, India, the Republic of Korea, and Taiwan: Postponement of Preliminary Determinations in Less-Than-Fair-Value Investigations

AGENCY: Enforcement and Compliance, International Trade Administration, Department of Commerce.

DATES: Applicable October 24, 2017.

FOR FURTHER INFORMATION CONTACT: Edythe Artman at (202) 482-3931 (the People's Republic of China (PRC)), Patrick O'Connor at (202) 482-0989 (India), Karine Gziryan at (202) 482-4081 (the Republic of Korea (Korea)), and Lilit Astvatsatrian at (202) 482-6412 (Taiwan), AD/CVD Operations, Enforcement and Compliance, International Trade Administration, U.S. Department of Commerce, 1401 Constitution Avenue NW., Washington, DC 20230.

SUPPLEMENTARY INFORMATION:

Background

On June 20, 2017, the Department of Commerce (the Department) initiated the less-than-fair-value investigations of imports of fine denier polyester staple fiber (PSF) from the PRC, India, Korea, and Taiwan.¹ Currently, the preliminary determinations in these investigations are due no later than November 7, 2017.

¹ See Fine Denier Polyester Staple Fiber from the People's Republic of China, India, the Republic of Korea, Taiwan, and the Socialist Republic of Vietnam: Initiation of Less-Than-Fair-Value Investigations, 82 FR 29023 (June 27, 2017). The fine denier PSF from the Socialist Republic of Vietnam investigation was terminated; see Fine Denier Polyester Staple Fiber from the Socialist Republic of Vietnam: Termination of Less-Than-Fair-Value Investigation, 82 FR 33480 (July 20, 2017).

Postponement of Preliminary Determination

Section 733(b)(1)(A) of the Tariff Act of 1930, as amended (Act), requires the Department to issue the preliminary determination in a less-than-fair-value investigation within 140 days after the date on which the Department initiated the investigation. However, section 733(c)(1) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request. See CFR 351.205(e).

On October 13, 2017, the petitioners ² submitted a timely request, pursuant to section 733(c)(1)(A) of the Act, that the Department postpone the preliminary determinations in these less-than-fair-value investigations.³ In accordance with 19 CFR 351.205(e), the petitioners stated the reasons for their request. Specifically, the petitioners state that additional time is necessary for the Department to issue supplemental questionnaires and clarfy the initial questionnaire responses to accurately determine whether and what magnitude of dumping occurred during the period of investigation.⁴

² In these investigations, the petitioners are DAK Americas LLC, Nan Ya Plastics Corporation, America, and Auriga Polymers Inc.

³ See the petitioner's letter, “Fine Denier Polyester Staple Fiber from India, the People's Republic of China, the Republic of Korea, and Taiwan—Petitioners' Request to Postpone the Antidumping Duty Preliminary Determinations,” dated October 13, 2017, requesting postponement of the preliminary determination.

⁴ Id.

For the reasons stated above and because there is no compelling reason to deny the request, the Department, pursuant to section 733(c)(1)(A) of the Act, is postponing the deadline for these preliminary determinations to no later than 181 days after the date on which these investigations were initiated, i.e., to December 18, 2017. Pursuant to section 735(a)(1) of the Act and 19 CFR 351.210(b)(1), the deadline for the final determinations will continue to be 75 days after the date of the preliminary determination, unless postponed at a later date.

This notice is issued and published pursuant to section 733(c)(2) of the Act and 19 CFR 351.205(f)(1).

Dated: October 18, 2017.
Gary Taverman,
Deputy Assistant Secretary for Antidumping and Countervailing Duty Operations, performing the non-exclusive functions and duties of the Assistant Secretary for Enforcement and Compliance.

[FR Doc. 2017-23021 Filed 10-23-17; 8:45 am]

BILLING CODE 3510-DS-P